DEPARTMENT OF LABOR

Bureau of Labor Statistics

Proposed collection; comment request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. Currently, the Bureau of Labor Statistics (BLS) is soliciting comments concerning the proposed revision of “The Consumer Expenditure Surveys: The Quarterly Interview and the Diary.” A copy of the proposed information collection request (ICR) can be obtained by contacting the individual listed below in the ADDRESSES section of this notice.

DATES: Written comments must be submitted to the office listed in the ADDRESSES section below on or before July 22, 2002.

ADDRESSES: Send comments to Amy A. Hobby, BLS Clearance Officer, Division of Management Systems, Bureau of Labor Statistics, Room 4080, 2 Massachusetts Avenue, NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I. Background

The Consumer Expenditure (CE) surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions; (2) to provide a continuous flow of data on income and expenditure patterns for use in economic analysis and policy formulation; and (3) to provide a flexible consumer survey vehicle that is available for use by other Federal Government agencies. Public and private users of price statistics, including Congress and the economic policy making agencies of the Executive branch, rely on data collected in the CPI in their day-to-day activities. Hence, data users and policy makers widely accept the need to improve the process used for revising the CPI. If the CE Surveys were not conducted on a continuing basis, current information necessary for more timely, as well as more accurate, updating of the CPI would not be available. In addition, data would not be available to respond to the continuing demand—from the public and private sectors—for current information on consumer spending.

In the Quarterly Interview Survey, each consumer unit (CU) in the sample is interviewed every three months over five calendar quarters. The sample for each quarter is divided into three panels, with CU's being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

The BLS and the Census Bureau have converted the paper and pencil CE Quarterly Interview Survey to a computer assisted personal interview (CAPI) instrument. The CE Quarterly Interview CAPI instrument will be implemented in April, 2003.

Minor wording changes were made in the CAPI version of the questionnaire to streamline the reading of questions with automatic “fills” of pronouns or previously reported data.

The race and ethnicity questions have been modified in both the Quarterly Interview and the Diary in accordance with the Office of Management and Budget's (OMB) 1997 published “Standards for Maintaining, Collecting, and Presenting Federal Data on Race and Ethnicity”. The placement and exact wording of these questions were based on consultations with the interagency group formed to study the implementation of these standards, in an effort to maintain comparability with other household surveys collecting this information.

The response category “unmarried partner” was added to the question defining each household member's relationship to the reference person. Previously, this response was a “write-in” under “other” on the questionnaire. If this category is selected, the person is automatically included in the reference person's consumer unit without asking the subsequent financial responsibility questions.

The wording of the question concerning receipt of cash assistance/welfare was reworded in the Quarterly Interview Survey to ensure respondents correctly include all benefits received from state and local government agencies.

Type of Review: Revision of a currently approved collection.

Agency: Bureau of Labor Statistics.

Title: The Consumer Expenditure Surveys: The Quarterly Interview and the Diary.

OMB Number: 1220-0050.

Form | Total Respondents | Frequency | Total Responses | Average Time per Response | Estimated Total Burden (hours)
CE Quarterly Interview CAPI Instrument | 9,629 | 4 | 38,516 | 90 | 57,774
Quarterly Interview Reinterview | 2,118 | 1 | 2,118 | 15 | 530
CE Diary: CE-802 Household Questionnaire | 7,745 | 3 | 23,235 | 25 | 9,681
CE Diary: CE-801, Record of Your Daily Expenses | 7,745 | 2 | 15,490 | 105 | 27,108
CE Diary Reinterview CE-880 CE-880(N) | 1,293 | 1 | 1,293 | 12 | 259
Totals | 17,374 |  | 80,652 |  | 95,352
Please note: Reinterview respondents are a subset of the original number of respondents for each survey. Therefore, they are not counted again in the totals.

Affected Public: Individuals or households.

Total Burden Cost (capital/startup): $0.

Total Burden Cost (operating/maintenance): $0.

Comments submitted in response to this notice will be summarized and/or included in the request for Office of Management and Budget approval of the information collection request; they also will become a matter of public record.

Signed at Washington, DC, this 8th day of May, 2002.
Jesús Salinas,
Acting Chief, Division of Management Systems, Bureau of Labor Statistics.

[FR Doc. 02-12695 Filed 5-20-02; 8:45 am]

BILLING CODE 4510-24-P